DEPARTMENT OF JUSTICE

Notice of Lodging of a Consent Decree Under the Clean Air Act

Notice is hereby given that on July 2, 2012, a proposed Consent Decree in the case of United States v. Hercules Incorporated, No. 3:12CV483, was lodged with the United States District Court for the Eastern District of Virginia, Richmond Division. In this action, the United States sought relief for violations of Section 112 of the Clean Air Act, 42 U.S.C. 7412, and implementing regulations at 40 CFR part 63, Subpart UUUU, the National Emission Standards for Hazardous Air Pollutants for Cellulose Products Manufacturing, and for violations of the Defendant's State-issued operating permit at its cellulose products manufacturing facility in Hopewell, Virginia. The proposed Consent Decree requires the Defendant to pay a civil penalty of $175,000, and to implement a program aimed at preventing future violations of the Clean Air Act at its Hopewell facility.

The Department of Justice will receive, for a period of thirty (30) days from the date of this publication, comments relating to the Consent Decree. Comments should be addressed to the Assistant Attorney General, Environment and Natural Resources Division, and either emailed to pubcomment-ees.enrd@usdoj.gov, or mailed to: P.O. Box 7611, U.S. Department of Justice, Washington, DC 20044-7611, and should refer to: U.S. v. Hercules Incorporated., DJ. Ref. No. 90-5-2-1-09609.

During the public comment period, the Consent Decree may also be examined at the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy”(EESCDCopy.ENRD@usdoj.gov), fax no. (202) 514-0097, phone confirmation number (202) 514-5271. If requesting a copy from the Consent Decree Library by mail, please enclose a check in the amount of $16.50 (25 cents per page reproduction cost) payable to the U.S. Treasury or, if requesting by email or fax, forward a check in that amount to the Consent Decree Library at the address given above.

Robert Brook,
Assistant Chief, Environmental Enforcement Section, Environment and Natural Resources Division.

[FR Doc. 2012-18286 Filed 7-25-12; 8:45 am]

BILLING CODE 4410-15-P